DEPARTMENT OF ENERGY

Federal Energy Regulatory Commission

[Docket No. EC04-92-000, et al.]

UniSource Energy Corporation, et al.; Electric Rate and Corporate Filings

April 9, 2004.

The following filings have been made with the Commission. The filings are listed in ascending order within each docket classification.

1. UniSource Energy Corporation; Tucson Electric Power Company; UNS Electric, Inc.; Saguaro Utility Group I Corp.; Saguaro Acquisition Corp.; and Saguaro Utility Group L.P.

[Docket No. EC04-92-000]

Take notice that on April 7, 2004, UniSource Energy Corporation, Tucson Electric Power Company, UNS Electric, Inc., Saguaro Utility Group I Corp., Saguaro Acquisition Corp., and Saguaro Utility Group, L.P. (collectively, Applicants) submitted a joint application pursuant to section 203 of the Federal Power Act seeking all authorizations and approvals necessary for an indirect disposition of jurisdictional facilities in connection with the acquisition of UniSource Energy Corporation by Saguaro Utility Group I Corp., as described in the joint application.

Comment Date: April 28, 2004.

2. Eagle Point Cogeneration Partnership and Sunoco Power Generation LLC

[Docket No. EC04-93-000]

Take notice that on April 7, 2004, Eagle Point Cogeneration Partnership (Eagle Point), and Sunoco Power Generation LLC (Sunoco Power) (jointly, Applicants), filed with the Federal Energy Regulatory Commission an application pursuant to section 203 of the Federal Power Act for authorization for Eagle Point to lease certain jurisdictional facilities to Sunoco Power. The jurisdictional facilities are associated with the Eagle Point Cogeneration Facility.

Comment Date: April 28, 2004.

3. Avista Corporation

[Docket No. ER04-477-001]

Take notice that on April 5, 2004, Avista Corporation (Avista) submitted an executed signature page for the service agreement between Avista and Bonneville Power Administration designated as Rate Schedule No. 307 under Avista's FERC Electric Tariff Original Volume No. 10.

Comment Date: April 26, 2004.

4. Orion Power MidWest, LP

[Docket No. ER04-717-000]

Take notice that on April 6, 2004 Orion Power Midwest, LP (OPMW) filed a rate schedule and supporting cost data for its proposed Reactive Support and Voltage Control from Generation Sources Service tariff from its generation facilities within the American Transmission System, Incorporated control area.

Comment Date: April 27, 2004.

5. Cinergy Services, Inc.

[Docket No. ER04-719-000]

Take notice that on April 7, 2004, Cinergy Services, Inc. (Cinergy) tendered for filing an amended and restated Interconnection Agreement entered into by and between Cinergy Services, Inc., acting as agent for and on behalf of PSI Energy, Inc., and Allegheny Energy Supply Generating Facility, L.L.C. (Wheatland), dated as of March 31, 2004. Wheatland was previously known as WestFork Land Development Company, L.L.C.

Cinergy states that it has served copies of its filing upon the Indiana Utility Regulatory Commission and Wheatland.

Comment Date: April 27, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-869 Filed 4-16-04; 8:45 am]

BILLING CODE 6717-01-P